DEPARTMENT OF THE INTERIOR

Bureau of Land Management

[17X.LLID957000.L14400000.BJ0000.241A.X.4500104880]

Filing of Plats of Survey: Idaho

AGENCY: Bureau of Land Management, Interior.

ACTION: Notice of official filing.

SUMMARY: The Bureau of Land Management (BLM) is scheduled to file plats of survey for the lands described in this notice 30 calendar days from the date of this publication in the BLM Idaho State Office, Boise, Idaho. The surveys, which were executed at the request of the Bureau of Indian Affairs, the Bureau of Reclamation, and the BLM, are necessary for the management of these lands.

DATES: Protests must be received by the BLM by July 28, 2017.

ADDRESSES: A copy of the plats may be obtained from the Public Room at the BLM, Idaho State Office, 1387 S. Vinnell Way, Boise, Idaho 83709, upon required payment. Please use this address when filing written protests.

FOR FURTHER INFORMATION CONTACT: Stanley G. French, Branch of Cadastral Survey, BLM, 1387 South Vinnell Way, Boise, Idaho, 83709-1657, 208-373-3981. Persons who use a telecommunications device for the deaf (TDD) may call the Federal Relay Service (FRS) at 1-800-877-8339 to contact Mr. French. The FRS is available 24 hours a day, seven days a week, to leave a message or question with Mr. French. You will receive a reply during normal business hours.

SUPPLEMENTARY INFORMATION: The lands surveyed are:

Boise Meridian, Idaho

T. 3 S., R. 36 E., Section 12, accepted February 21, 2017

T. 48 N., R. 5 E., Unsurveyed Sections 7 and 18, accepted February 21, 2017

T. 36 N., R. 1 E., Sections 8, 17, 18, 20, 21, 22, 23, 29, 30, accepted February 21, 2017

T. 3 N., R. 3 W., Sections 17 and 19, accepted February 21, 2017

T. 27 N., R. 1 E., Section 24, accepted February 21, 2017

T. 33 N., R. 2 E., Sections 1, 23, 27, 32, 33, and 34, accepted February 21, 2017

T. 34 N., R. 3 E., Section 31, accepted February 21, 2017

T. 36 N., R. 2 E., Sections 14, 32, and 33, accepted February 21, 2017

A person or party who wishes to protest one or more plats of survey identified above must file a written notice with the Chief Cadastral Surveyor for Idaho, BLM. The protest must identify the plat(s) of survey that the person or party wishes to protest and contain all reasons and evidence in support of the protest. The protest must be filed before the scheduled date of official filing for the plat(s) of survey being protested. Any protest filed after the scheduled date of official filing will not be considered. A protest is considered filed on the date it is received by the Chief Cadastral Surveyor for Idaho during regular business hours; if received after regular business hours, a protest will be considered filed the next business day. If a protest against a plat of survey is received prior to the scheduled date of official filing, the official filing of the plat of survey identified in the protest will be stayed pending consideration of the protest. A plat of survey will not be officially filed until the next business day following dismissal or resolution of all protests of the plat.

Before including your address, phone number, email address, or other personal identifying information in a protest, you should be aware that the documents you submit, including your personal identifying information, may be made publicly available in their entirety at any time. While you can ask us to withhold your personal identifying information from public review, we cannot guarantee that we will be able to do so.

Authority: 43 U.S.C. Chap. 3.

Stanley G. French,
Chief Cadastral Surveyor for Idaho.

[FR Doc. 2017-13539 Filed 6-27-17; 8:45 am]

BILLING CODE 4310-GG-P